DEPARTMENT OF TRANSPORTATION

Federal Motor Carrier Safety Administration

[Docket No. FMCSA-2020-0122]

Parts and Accessories Necessary for Safe Operation; Application for Exemption Renewal from Grote Industries, LLC

AGENCY: Federal Motor Carrier Safety Administration (FMCSA), Department of Transportation (DOT).

ACTION: Notice of application for renewal of exemption; request for comments.

SUMMARY: The Federal Motor Carrier Safety Administration (FMCSA) requests public comment on the application from Grote Industries, LLC (Grote) for a renewal of its exemption allowing motor carriers to install amber brake-activated pulsating warning lamps on the rear of trailers and van body trucks in addition to the steady-burning brake lamps required by the Federal Motor Carrier Safety Regulations (FMCSRs). Grote currently holds an exemption for the period December 7, 2020, through December 2, 2025, and requests a five-year renewal of the exemption. FMCSA requests public comment on Grote's request to renew the exemption.

DATES: Comments must be received on or before February 18, 2025.

ADDRESSES: You may submit comments identified by docket number FMCSA-2020-0122 using any of the following methods:

• Federal eRulemaking Portal: Go to https://www.regulations.gov/docket/FMCSA-2020-0122/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m. ET, Monday through Friday, except Federal holidays.

• Fax: (202) 493-2251.

Each submission must include the Agency name and the docket number (FMCSA-2024-0237) for this notice. Note that DOT posts all comments received without change to www.regulations.gov, including any personal information included in a comment. Please see the Privacy Act heading below.

Docket: For access to the docket to read background documents or comments, go to www.regulations.gov at any time or visit the ground level of the West Building, 1200 New Jersey Avenue SE, Washington, DC, between 9 a.m. and 5 p.m., ET, Monday through Friday, except Federal holidays. To be sure someone is there to help you, please call (202) 366-9317 or (202) 366-9826 before visiting Dockets Operations.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Public Participation and Request for Comments

A. Submitting Comments

If you submit a comment, please include the docket number for this notice (FMCSA-2020-0122), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2020-0122/document, click on this notice, click “Comment,” and type your comment into the text box on the following screen. Choose whether you are submitting your comment as an individual or on behalf of a third party and then submit.

If you submit your comments by mail or hand delivery, submit them in an unbound format, no larger than 8½ by 11 inches, suitable for copying and electronic filing.

If you submit comments by mail and would like to know that they reached the facility, please enclose a stamped, self-addressed postcard or envelope.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view any documents mentioned as being available in the docket, go to https://www.regulations.gov/docket/FMCSA-2020-0122/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

D. Privacy

In accordance with 5 U.S.C. 553(c), DOT solicits comments from the public to better inform its regulatory process. DOT posts these comments, including any personal information the commenter provides, to www.regulations.gov, as described in the system of records notice DOT/ALL 14 (Federal Docket Management System (FDMS)), which can be reviewed under the “Department Wide System of Records Notices” at https://www.transportation.gov/individuals/privacy/privacy-act-system-records-notices. The comments are posted without edit and are searchable by the name of the submitter.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Exemption Request

Current Regulatory Requirements

Section 393.25(e) of the FMCSRs requires all exterior lamps (both required lamps and any additional lamps) to be steady burning except turn signal lamps, hazard warning signal lamps, school bus warning lamps, amber warning lamps or flashing warning lamps on tow trucks and commercial motor vehicles (CMV) transporting oversized loads, and warning lamps on emergency and service vehicles authorized by State or local authorities.

Original Exemption

In its original exemption application, Grote applied for an exemption to allow motor carriers operating trailers and van body trucks to install amber brake-activated pulsating warning lamps on the rear of these vehicles, in addition to the steady-burning brake lamps required by FMCSRs. Specifically, Grote requested allowance to use: (1) An upper pair of brake-activated warning lamps centered about the centerline of the trailer such that the centerline of the outermost identification (ID) lamps to the centerline of the auxiliary braking lamps is between 6-12 inches and collinear with the three ID lamp cluster; (2) a single brake-activated warning lamp centrally located on or below the rear sill collinear with the stop/tail/turn lamps; (3) an upper pair of brake-activated warning lamps (as described in (1) above) and a single brake-activated warning lamp centrally located on or below the rear sill collinear with the stop/tail/turn lamps; (4) a lower pair of brake-activated warning lamps centered about the centerline of the trailer located on or below the rear sill; or (5) an upper pair of brake-activated warning lamps (as described in (1) above and a lower pair of brake-activated warning lamps as described in (4) above). These configurations would apply to both trailers and van body straight trucks. The lamps would be amber and pulsate as a Class II strobe for up to 4 seconds when the brake is applied, then transition to a steady red for the duration of brake activation. The brake-activated pulsating warning lamps would be in addition to the steady-burning brake lamps required by the FMCSRs.

Grote, a manufacturer of vehicle lighting and safety equipment, submitted this request on behalf of interstate motor carriers, citing research that shows pulsating brake-activated warning lamps improve vehicle visibility. Grote argued that the use of amber pulsating brake-activated warning lamps, in addition to steady-burning red brake lamps required by the FMCSRs, would allow commercial carriers to not only maintain operational safety levels, but also implement more efficient and effective operations.

Grote contended that adding pulsating lamps would enhance safety, noting studies showing that these lamps improve visibility and help prevent accidents. Additionally, Grote referenced FMCSA's previous exemption granted to Groendyke Transport, Inc., which demonstrated a reduction in rear-end accidents involving tank trailers following the installation of amber pulsating brake lamps alongside red brake lamps (84 FR 17910; April 26, 2019).

Grote included in the original application several studies conducted by the National Highway Traffic Safety Administration (NHTSA), another agency in the U.S. Department of Transportation, on the issues of rear-end crashes, distracted driving, and braking signals. Grote stated that the additional amber brake-activated pulsating warning lamp(s) will not have an adverse impact on safety, and that adherence to the terms and conditions of the exemption would likely achieve a level of safety equivalent to or greater than the level of safety achieved without the exemption.

On December 7, 2020, following notice and consideration of the comments received, FMCSA granted Grote a 5-year exemption after determining that the use of an amber brake-activated pulsating lamp positioned on the rear of the trailer and van body trucks, in addition to the steady-burning brake lamps required by the FMCSRs, would likely maintain a level of safety that is equivalent to or greater than the level of safety achieved without the exemption (85 FR 78918). In its decision, FMCSA noted that rear-end crashes, which account for approximately 30% of all crashes, are a significant concern, especially when large trucks are involved. These types of crashes often result from a failure to respond (or delays in responding) to a stopped or decelerating lead vehicle. Data between 2010 and 2016 show that large trucks are consistently three times more likely than other vehicles to be struck in the rear in two-vehicle fatal crashes.

Research conducted by both FMCSA and NHTSA explored alternative rear signaling systems to address this issue. Specifically, FMCSA conducted research and development on Enhanced Rear Signaling (ERS) systems, which showed promise. However, the FMCSA ultimately decided not to pursue formal field operational testing of the prototype system due to concerns about implementation costs and fleets' willingness to invest in the technology. Nonetheless, the preliminary research showed that the ERS system performed well at detecting and signaling rear-end crash threats and drawing the gaze of following-vehicle drivers to the forward roadway which if implemented, could potentially reduce the number and frequency of rear-end crashes into the rear of CMVs.

Separately, NHTSA has performed a series of research studies intended to develop and evaluate rear signaling applications designed to reduce the frequency and severity of rear-end crashes via enhancements to rear-brake lighting by redirecting drivers' visual attention to the forward roadway (for cases involving a distracted driver), and/or increasing the saliency or meaningfulness of the brake signal (for attentive drivers). The research demonstrated that flashing all lights simultaneously or alternately flashing is a promising signal for use in enhanced brake light applications, even at levels of brightness within the current regulated limits. Specifically, the study showed that substantial performance gains may be realized by increasing brake lamp brightness levels under flashing configurations; however, increases beyond a certain brightness threshold will not return substantive performance gains.

In addition, NHTSA has conducted research on the effectiveness of rear turn signal color on the likelihood of being involved in a rear-end crash. FMVSS No. 108 allows rear turn signals to be either red or amber in color. The study showed that amber signals show a 5.3 percent effectiveness in reducing involvement in two-vehicle crashes where a lead vehicle is rear-struck in the act of turning left, turning right, merging into traffic, changing lanes, or entering/leaving a parking space. The advantage of amber rear turn signals was shown to be statistically significant.

Finally, FMCSA concluded that the FMCSA and NHTSA research programs demonstrated the effectiveness of alternative rear-signaling systems in reducing the frequency and severity of rear-end crashes. This evidence was sufficient to support the implementation of amber, brake-activated, pulsating warning lamps on the rear of trailers and van body trucks, in addition to the steady-burning brake lamps required by regulation, as likely to provide a level of safety equivalent to or greater than that achieved without the exemption.

Therefore, FMCSA imposed the following terms and conditions to ensure the safety of the motoring public. The exemption would be rescinded if: (1) Motor carriers operating trailers and van body trucks fail to comply with the terms and conditions of the exemption; (2) the exemption resulted in a lower level of safety than was maintained before it was granted; or (3) continuation of the exemption would not be consistent with the goals and objectives of 49 U.S.C. 31136(e) and 31315(b).

Application for Renewal of Exemption

In its renewal application, Grote reiterated its previous statements in support of the original exemption request. Since the exemption was granted in 2020, the Grote auxiliary strobe and stop lamp has been installed on over 80,000 vehicles and traveled over 250,000,000 miles. Grote reported that the usage of its pulsating warning lamp has yielded positive results. Grote stated that a large national fleet customer reported a 33% reduction in overall rear-end crashes on a per-mile basis compared to a baseline fleet (without the system installed) with more than 1 billion miles driven. In the most severe cases, involving personal injuries, the fleet observed a 75% reduction. Another large fleet customer reported similar outcomes, noting a 52% reduction in overall recordable incidents per vehicle and, more notably, a 75% reduction in the severity of incidents that did occur. A copy of Grote's request to renew the exemption is available in the docket.

Although Grote applied for “renewal of the 2020 exemption,” it also stated that it was “applying on behalf of all operators, motor carriers, and equipment manufacturers that are subject to” the Federal Motor Carrier Safety Regulations (FMCSRs) (emphasis added). Both the 2020 exemption and this renewal request apply only to motor carriers and operators of commercial motor vehicles (CMVs) that install Grote's pulsating brake lamps described above, not to Grote itself (unless it operates as a motor carrier and installs its own brake lamps on its own CMVs) or to any other equipment manufacturer. The renewal application also stated that “Grote seeks the ability to install safety features in addition to those required under the FMCSRs.” The renewal application, like the 2020 exemption, allows motor carriers or CMV operators to install the Grote brake equipment described above, but does not authorize Grote to install its brake equipment on behalf of motor carriers. The proposed renewal, like the current exemption, would apply only to motor carriers and CMV operators that wish to install and use the Grote brake lamp equipment.

IV. Applicant's Method To Ensure an Equivalent or Greater Level of Safety

Grote states that its commitment to safety remains unchanged and emphasized that in the five years since the original exemption was granted, the use of Grote's amber brake-activated pulsating warning lamps on the rear of trailers and van body trucks in addition to the steady-burning brake lamps required by the FMCSRs has demonstrated a level of safety equivalent to, or greater than, that provided by the regulation.

V. Request for Comments

In accordance with 49 U.S.C. 31315(b), FMCSA requests public comment from all interested persons on Grote's application for renewal of its exemption from § 393.25(e). All comments received before the close of business on the comment closing date indicated at the beginning of this notice will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2025-01162 Filed 1-16-25; 8:45 am]

BILLING CODE 4910-EX-P